DEPARTMENT OF ENERGY

Federal Energy Regulatory Commission

[Docket No. CP22-503-000, Docket No. CP22-502-000]

Columbia Gas Transmission, LLC; Transcontinental Gas Pipe Line Company, LLC; Notice of Intent To Prepare an Environmental Impact Statement for The Proposed Virginia Reliability Project and Commonwealth Energy Connector Project, Request for Comments on Environmental Issues, and Schedule for Environmental Review

The staff of the Federal Energy Regulatory Commission (FERC or Commission) will prepare an environmental impact statement (EIS) that will discuss the environmental impacts of the Virginia Reliability Project and Commonwealth Energy Connector Project involving construction and operation of facilities by Columbia Gas Transmission, LLC (Columbia) and Transcontinental Gas Pipe Line Company, LLC (Transco), respectively. Columbia's project would involve construction and operation of certain natural gas pipeline facilities in Greensville, Prince George, Sussex, Surry, Southampton, and Isle of Wight Counties, Virginia and in the cities of Suffolk and Chesapeake, Virginia. Transco's project would also involve construction and operation of natural gas pipeline facilities in Mecklenburg, Brunswick, and Greensville Counties, Virginia. The Commission will use this EIS in its decision-making process to determine whether the projects are in the public convenience and necessity. The schedule for preparation of the EIS is discussed in the Schedule for Environmental Review section of this notice.

As part of the National Environmental Policy Act (NEPA) review process, the Commission takes into account concerns the public may have about proposals and the environmental impacts that could result whenever it considers the issuance of a Certificate of Public Convenience and Necessity. This gathering of public input is referred to as “scoping.” By notice issued on February 22, 2022, in Docket Nos. PF22-3-000 and PF22-4-000, the Commission opened a scoping period during Columbia's and Transco's planning processes for the projects and prior to filing formal applications with the Commission, a process referred to as “pre-filing.” By supplemental notice issued on March 7, 2022, the Commission extended the scoping period due to inadvertent mailing issues. Columbia and Transco have now filed respective applications with the Commission, and staff intends to prepare an EIS that will address the concerns raised during the pre-filing scoping process and comments received in response to this notice.

By this notice, the Commission requests public comments on the scope of issues to address in the environmental document, including comments on potential alternatives and impacts, and any relevant information, studies, or analyses of any kind concerning impacts affecting the quality of the human environment. To ensure that your comments are timely and properly recorded, please submit your comments so that the Commission receives them in Washington, DC on or before 5:00 p.m. Eastern Time on November 25, 2022. Comments may be submitted in written form. Further details on how to submit comments are provided in the Public Participation section of this notice.

As mentioned above, during the pre-filing process, the Commission opened a scoping period which expired on April 6, 2022; however, Commission staff continued to accept comments during the entire pre-filing process. Staff also held two virtual scoping sessions to take oral scoping comments on March 15 and 30, 2022. All substantive written and oral comments provided during pre-filing will be addressed in the EIS. Therefore, if you submitted comments on these projects to the Commission during the pre-filing process in Docket Nos. PF22-3-000 and PF22-4-000 you do not need to file those comments again. Likewise, if you submitted comments in response to the Notice of Applications issued by the Commission on September 8, 2022, you do not need to file those comments again.

If you are a landowner receiving this notice, a pipeline company representative may contact you about the acquisition of an easement to construct, operate, and maintain the proposed facilities. The company would seek to negotiate a mutually acceptable easement agreement. You are not required to enter into an agreement. However, if the Commission approves the project, the Natural Gas Act conveys the right of eminent domain to the company. Therefore, if you and the company do not reach an easement agreement, the pipeline company could initiate condemnation proceedings in court. In such instances, compensation would be determined by a judge in accordance with state law. The Commission does not grant, exercise, or oversee the exercise of eminent domain authority. The courts have exclusive authority to handle eminent domain cases; the Commission has no jurisdiction over these matters.

Columbia and Transco provided landowners with a fact sheet prepared by the FERC entitled “An Interstate Natural Gas Facility On My Land? What Do I Need To Know? ” which addresses typically asked questions, including the use of eminent domain and how to participate in the Commission's proceedings. This fact sheet along with other landowner topics of interest are available for viewing on the FERC website (www.ferc.gov) under the Natural Gas Questions or Landowner Topics link.

Public Participation

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (CP22-503-000 for Virginia Reliability Project or CP22-502-000 for Commonwealth Energy Connector Project) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Additionally, the Commission offers a free service called eSubscription. This service provides automatic notification of filings made to subscribed dockets, document summaries, and direct links to the documents. Go to https://www.ferc.gov/ferc-online/overview to register for eSubscription. If using this service, you will need to subscribe for each docket separately to receive notifications for both projects.

Summary of the Proposed Projects, the Projects Purpose and Need, and Expected Impacts

Virginia Reliability Project

Columbia proposes to replace and expand existing facilities associated with its VM-107 and VM-108 pipelines in southeast Virginia. The Virginia Reliability Project would increase the capability of Columbia's existing pipeline facilities to provide incremental firm transportation service of 100,000 dekatherms per day (Dth/d), while increasing the reliability of Columbia's system by replacing 1950s vintage pipelines. According to Columbia, its project would meet the increasing market demand of residential, commercial, and industrial consumers in southeast Virginia.

The Virginia Reliability Project would consist of the following:

• replacement of 49.2 miles of existing, 1950s vintage 12-inch-diameter VM-107 and VM-108 pipelines with 24-inch-diameter pipeline mostly within Columbia's existing right-of-way, in Sussex, Surry, Southampton, and Isle of Wight Counties, as well as the cities of Suffolk and Chesapeake;

• installation of one new 5,500-horsepower (HP) dual-drive compressor unit at the existing Emporia Compressor Station in Greensville County;

• a facility upgrade involving additional gas cooling and an increase of 2,700 HP at the existing Petersburg Compressor Station in Prince George County;

• modification of the Emporia Point of Receipt in Greensville County; Regulator Station 7423 in Prince George County; and the MS-831010 Point of Delivery in the City of Chesapeake; and

• eight mainline valve replacements, five new pig launcher/receiver installations,¹ and other minor appurtenant facilities.

¹ A “pig” is a tool that the pipeline company inserts into and pushes through the pipeline for cleaning the pipeline, conducting internal inspections, or other purposes.

The general location of the Virginia Reliability Project facilities is shown in appendix 1.²

² The appendices referenced in this notice will not appear in the Federal Register. Copies of the appendices were sent to all those receiving this notice in the mail and are available at www.ferc.gov using the link called “eLibrary.” For instructions on connecting to eLibrary, refer to the last page of this notice. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

Based on the environmental information provided by Columbia, construction of the proposed facilities would disturb about 802.6 acres of land. Following construction, Columbia would maintain about 307.2 acres for operation of the project facilities; the remaining acreage would be restored and revert to former uses. About 92 percent of the replacement pipeline routes would parallel Columbia's existing right-of-way and/or other existing pipeline, utility, railroad, or road rights-of-way.

Based on an initial review of Columbia's proposal, public comments received during the pre-filing process, and public comments received on the Notice of Application, Commission staff have identified several expected impacts that deserve attention in the EIS. The Virginia Reliability Project would cross 131 waterbodies, 130.2 acres of wetland, several conservation sites, and about 0.5 mile of the Great Dismal Swamp National Wildlife Refuge. Three federally listed species (northern long-eared bat, red-cockaded woodpecker, and eastern black rail) may be affected by the project. Five state-listed species have potential to occur in the project area, and the potential for impacts on these species is being assessed. Environmental justice populations are present in the project area and may be affected by the project. The project would cross about 1.5 miles of the Sunray Agricultural Historic District, along Columbia's existing permanent right-of-way.

Commonwealth Energy Connector Project

Transco proposes to expand its existing natural gas transmission system in southeast Virginia to provide 105,000 Dth/d of incremental firm transportation capacity from its Compressor Station 165 in Pittsylvania County to its existing Emporia Metering and Regulation Station in Greensville County on its existing South Virginia Lateral B-Line Pipeline. According to Transco, the project would provide firm, year-round access to incremental natural gas supply, increase the overall reliability and diversification of energy supply for its customer, and add natural gas infrastructure to meet growing demand in the Mid-Atlantic area.

The Commonwealth Energy Connector Project would consist of the following:

• construction of a 6.35-mile-long, 24-inch-diameter pipeline loop ³ (referred to as the Commonwealth Loop), including valve and pig launcher/receiver facilities, in Brunswick and Greensville Counties;

³ A pipeline loop is a segment of pipe constructed parallel to an existing pipeline to increase capacity.

• addition of a 33,000-HP electric motor-drive compressor unit at the existing Compressor Station 168 in Mecklenburg County; and

• modifications to the existing Emporia Metering and Regulation Station in Greensville County.

The general location of the Commonwealth Energy Connector Project facilities is also shown in appendix 1.

Based on the environmental information provided by Transco, construction of the proposed facilities would disturb about 161.3 acres of land. Following construction, Transco would maintain about 1.8 acres (in addition to the existing permanent right-of-way) for operation of the project facilities. The remaining acreage would be restored and revert to former uses. All of the proposed pipeline route parallels Transco's existing pipeline right-of-way.

Based on an initial review of Transco's proposal, public comments received during the pre-filing process, and public comments received on the Notice of Application, Commission staff have identified several expected impacts that deserve attention in the EIS. Commission staff have identified several expected impacts that deserve attention in the EIS. The project would cross 14 waterbodies and 2.5 acres of wetlands. One federally listed species (northern long-eared bat) potentially occurs within the project area. Fifteen state-protected species potentially occur in the project area; however, these species are not expected to be affected by the project. Environmental justice populations are present in the project area and may be affected by the project.

The NEPA Process and the EIS

The EIS issued by the Commission will discuss impacts that could occur as a result of the construction and operation of the proposed projects under the relevant general resource areas:

• geology and soils;

• water resources and wetlands;

• vegetation and wildlife;

• threatened and endangered species;

• cultural resources;

• socioeconomics and environmental justice;

• land use;

• air quality and noise;

• climate change; and

• reliability and safety.

Commission staff will also make recommendations on how to lessen or avoid impacts on the various resource areas. Your comments will help Commission staff focus its analysis on the issues that may have a significant effect on the human environment.

The EIS will present Commission staff's independent analysis of the issues. The U.S. Army Corps of Engineers (USACE) and U.S. Fish and Wildlife Service (FWS) are cooperating agencies in the preparation of the EIS.⁴ Staff will prepare a draft EIS, which will be issued for public comment. Commission staff will consider all timely comments received during the comment period on the draft EIS and revise the document, as necessary, before issuing a final EIS. The draft and final EIS will be available in electronic format in the public record through eLibrary ⁵ and the Commission's natural gas environmental documents web page (https://www.ferc.gov/industries-data/natural-gas/environment/environmental-documents). If eSubscribed, you will receive instant email notification when the environmental document is issued.

⁴ The Council on Environmental Quality regulations addressing cooperating agency responsibilities are at Title 40 Code of Federal Regulations (CFR), Section 1501.8. (2021)

⁵ For instructions on connecting to eLibrary, refer to the last page of this notice.

Alternatives Under Consideration

The EIS will evaluate reasonable alternatives that are technically and economically feasible and meet the purpose and need for the proposed actions.⁶ Alternatives currently under consideration include:

⁶ 40 CFR 1508.1(z)

• the no-action alternative, meaning the projects are not implemented;

• Virginia Reliability Project pipeline segment routes that avoid wetlands, waterbodies, the Sunray Agricultural Historic District, or the Great Dismal Swamp National Wildlife Refuge; and

• options to reduce the length of the Commonwealth Energy Connector Project pipeline.

With this notice, the Commission requests specific comments regarding any additional potential alternatives to the proposed actions or segments of the proposed actions. Please focus your comments on reasonable alternatives (including alternative facility sites and pipeline routes) that meet the project(s) objectives, are technically and economically feasible, and avoid or lessen environmental impact.

Consultation Under Section 106 of the National Historic Preservation Act

In accordance with the Advisory Council on Historic Preservation's implementing regulations for section 106 of the National Historic Preservation Act, the Commission initiated section 106 consultation for the projects in the notice issued on February 22, 2022, with the applicable State Historic Preservation Office, and other government agencies, interested Indian tribes, and the public to solicit their views and concerns regarding the projects' potential effects on historic properties.⁷ This notice is a continuation of section 106 consultation for the Project. The EIS will document findings on the impacts on historic properties and summarize the status of consultations under section 106.

⁷ The Advisory Council on Historic Preservation's regulations are at Title 36, Code of Federal Regulations, Part 800. Those regulations define historic properties as any prehistoric or historic district, site, building, structure, or object included in or eligible for inclusion in the National Register of Historic Places.

Schedule for Environmental Review

On September 8, 2022, the Commission issued its Notice of Applications for the projects. Among other things, that notice alerted other agencies issuing federal authorizations of the requirement to complete all necessary reviews and to reach a final decision on the requests for a federal authorization within 90 days of the date of issuance of the Commission staff's final EIS for the projects. This notice identifies the Commission staff's planned schedule for completion of the final EIS for the projects, which is based on an issuance of the draft EIS in April 2023.

Issuance of Notice of Availability of the Final EIS—September 15, 2023

90-day Federal Authorization Decision Deadline ⁸—December 16, 2023

⁸ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary for the final EIS, an additional notice will be provided so that the relevant agencies are kept informed of the EIS progress.

Permits and Authorizations

The table below lists the anticipated permits and authorizations for the projects required under federal law. This list may not be all-inclusive and does not preclude any permit or authorization if it is not listed here. Agencies with jurisdiction by law and/or special expertise may formally cooperate in the preparation of the Commission's EIS and may adopt the EIS to satisfy its NEPA responsibilities related to these projects. Agencies that would like to request cooperating agency status should follow the instructions for filing comments provided under the Public Participation section of this notice.

Agency | Permit
Virginia Reliability Project
FERC | Certificate of Public Convenience and Necessity.
USACE Norfolk District | Clean Water Act Section 404 Permit. Rivers and Harbors Act Section 10 Permit. Section 408 Permit.
Virginia Department of Environmental Quality—Water Division | Issuance of a Water Quality Certification under Section 401 of the Clean Water Act =.
FWS Virginia Ecological Field Services Office | Consultation under Section 7 of the Endangered Species Act.
FWS Great Dismal Swamp National Wildlife Refuge | Authorization to Construction and Operate the Project.
Virginia Department of Historic Resources | Consultation under Section 106 of the National Historic Preservation Act.
Commonwealth Energy Connector Project
FERC | Certificate of Public Convenience and Necessity.
USACE Norfolk District | Clean Water Act Section 404 Permit.
Virginia Department of Environmental Quality—Water Division | Issuance of a Water Quality Certification under Section 401 of the Clean Water Act =.
FWS Virginia Ecological Field Services Office | Consultation under Section 7 of the Endangered Species Act.
Virginia Department of Historic Resources | Consultation under Section 106 of the National Historic Preservation Act.

Environmental Mailing List

This notice is being sent to the Commission's current environmental mailing list for the projects which includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the projects and includes a mailing address with their comments. Commission staff will update the environmental mailing list as the analysis proceeds to ensure that Commission notices related to this environmental review are sent to all individuals, organizations, and government entities interested in and/or potentially affected by the proposed projects. State and local government representatives should notify their constituents of these proposed projects and encourage them to comment on their areas of concern.

If you need to make changes to your name/address, or if you would like to remove your name from the mailing list, please complete one of the following steps:

(1) Send an email to GasProjectAddressChange@ferc.gov stating your request. You must include the docket number CP22-502-000 for Commonwealth Energy Connector Project or CP22-503-000 for Virginia Reliability Project in your request. If you are requesting a change to your address, please be sure to include your name and the correct address. If you are requesting to delete your address from the mailing list, please include your name and address as it appeared on this notice. This email address is unable to accept comments.

OR

(2) Return the attached “Mailing List Update Form” (appendix 2).

Additional Information

Additional information about the projects is available from the Commission's Office of External Affairs, at (866) 208-FERC, or on the FERC website at www.ferc.gov using the eLibrary link. Click on the eLibrary link, click on “General Search”, and enter the docket number in the “Docket Number” field, excluding the last three digits (i.e., CP22-502 or CP22-503). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: October 25, 2022.
Kimberly D. Bose,
Secretary.

[FR Doc. 2022-23664 Filed 10-31-22; 8:45 am]

BILLING CODE 6717-01-P